DEPARTMENT OF TRANSPORTATION

Federal Highway Administration

Tier 1 Environmental Impact Statement for Interstate 11 Corridor Between Nogales and Wickenburg, Arizona

AGENCY: Federal Highway Administration (FHWA), Arizona Department of Transportation (ADOT), DOT.

ACTION: Notice of intent to prepare a Tier 1 Environmental Impact Statement (EIS).

SUMMARY: The FHWA, as the Federal Lead Agency, and the ADOT, as the Local Project Sponsor, are issuing this notice to advise the public of our intention to prepare a Tier 1 EIS for the Interstate 11 (I-11) Corridor between Nogales and Wickenburg, AZ (I-11 Corridor). The Tier 1 EIS will assess the potential social, economic, and natural environmental impacts of a vehicular transportation facility and potential multimodal facility (rail and utility) opportunities in the designated I-11 Corridor across a range of alternatives, including a “No Build” alternative. The Tier 1 EIS will be prepared in accordance with regulations implementing the National Environmental Policy Act (NEPA), and provisions of Fixing America's Surface Transportation Act (FAST) Act.

FOR FURTHER INFORMATION CONTACT: For FHWA, contact Mr. Aryan Lirange, Senior Urban Engineer, Federal Highway Administration, 4000 North Central Avenue, Suite 1500, Phoenix, AZ 85012, telephone at 602-382-8973, or via email at Aryan.Lirange@dot.gov. Regular office hours are from 7:30 a.m. to 4:30 p.m., Monday through Friday, except Federal holidays. For ADOT, contact Mr. Jay Van Echo, I-11 Corridor Project Manager, Arizona Department of Transportation, 206 South 17th Avenue, Mail Drop 310B, Phoenix, AZ 85007, telephone at 520-400-6207, or via email at JVanEcho@azdot.gov. Regular office hours are from 8:00 a.m. to 5:00 p.m., Monday through Friday, except Federal holidays. Project information can be obtained from the project Web site at http://www.i11study.com/Arizona.

SUPPLEMENTARY INFORMATION: The purpose of this notice is to: (1) Alert interested parties to FHWA's plan to prepare the Tier 1 EIS; (2) provide information on the nature of the proposed action; (3) solicit public and agency input regarding the scope of the Tier 1 EIS, including the purpose and need, alternatives to be considered, and impacts to be evaluated; and (4) announce that public and agency scoping meetings will be conducted. The FHWA intends to issue a single Final Tier 1 EIS and Record of Decision (ROD) document pursuant to FAST Act Section 1311 requirements, unless FHWA determines statutory criteria or practicability considerations preclude issuance of a combined document.

The Tier 1 EIS will build upon the prior I-11 and Intermountain West Corridor Study (IWCS) completed in 2014. This Planning and Environmental Linkages study was a multimodal planning effort that included ADOT, Federal Railroad Administration, FHWA, Maricopa Association of Governments, Nevada Department of Transportation, Regional Transportation Commission of Southern Nevada, and other key stakeholders. The I-11 and Intermountain West Corridor was identified as a critical piece of multimodal infrastructure that would diversify, support, and connect the economies of Arizona and Nevada. The I-11 and Intermountain West Corridor could also be connected to a larger north-south transportation corridor, linking Mexico and Canada.

On December 4, 2015, the President signed into law the FAST Act, which is a 5-year legislation to improve the Nation's surface transportation infrastructure. The FAST Act formally designates I-11 throughout Arizona, reinforcing ADOT's overall concept for the Arizona I-11 Corridor that emerged from the IWCS study. The FHWA and ADOT continue to advance the I-11 Corridor in Arizona for the approximately 280-mile section between Nogales and Wickenburg with this Tier I EIS study.

The FHWA and ADOT will undertake a scoping process for the I-11 Corridor that will allow the public and interested agencies to comment on the scope of the environmental review process. The FHWA and ADOT will invite all interested individuals, organizations, public agencies, and Native American Tribes to comment on the scope of the Tier 1 EIS, including the purpose and need, alternatives to be studied, impacts to be evaluated, and evaluation methods to be used. The formal scoping period is from the date of this notice until July 8, 2016. Six public scoping meetings and three interagency scoping meetings for Federal, State, regional and local resource and regulatory agencies will be held during the formal scoping period. In addition, cooperating and participating agency invitation letters will be sent to agencies that have jurisdiction or may have an interest in the I-11 Corridor.

The buildings used for the meetings are accessible to persons with disabilities. Any person who requires special assistance, such as a language interpreter, should contact the Interstate 11 Tier 1 EIS Study Team at telephone 844-544-8049 or via email at I-11ADOTStudy@hdrinc.com at least 48 hours before the meeting.

Written comments on the scope of the Tier 1 EIS should be mailed to: Interstate 11 Tier 1 EIS Study Team, c/o ADOT Communications, 1655 West Jackson Street, Mail Drop 126F, Phoenix, AZ 85007; sent via email to I-11ADOTStudy@hdrinc.com; or submitted on the study's Web site at http://www.i11study.com/Arizona.

The Paperwork Reduction Act seeks, in part, to minimize the cost to the taxpayer of the creation, collection, maintenance, use dissemination, and disposition of information. Accordingly, unless a specific request for a complete hardcopy of the NEPA document is received before it is printed, the FHWA and ADOT will distribute only electronic versions of the NEPA document. A complete copy of the environmental document will be available for review at locations throughout the study area. An electronic copy of the complete environmental document will be available on the study's Web site at http://www.i11study.com/Arizona.

Authority: 23 U.S.C. 315; 23 CFR 771.123.

Issued on: May 11, 2016.
Karla S. Petty,
Arizona Division Administrator, Federal Highway Administration.

[FR Doc. 2016-11694 Filed 5-19-16; 8:45 am]

BILLING CODE P